FEDERAL COMMUNICATIONS COMMISSION

Open Commission Meeting, Thursday, July 12, 2018

July 5, 2018.

The Federal Communications Commission will hold an Open Meeting on the subjects listed below on Thursday, July 12, 2018 which is scheduled to commence at 10:30a.m. in Room TW-C305, at 445 12th Street SW, Washington, DC.

Item No. | Bureau | Subject
1 | WIRELESS TELE-COMMUNICATIONS, INTERNATIONAL AND OFFICE OF ENGINEERING & TECHNOLOGY | Title: Expanding Flexible Use of the 3.7 to 4.2 GHz Band (GN Docket No. 18-122); Expanding Flexible Use in Mid-Band Spectrum Between 3.7 and 24 GHz (GN Docket No. 17-183); Petition for Rulemaking to Amend and Modernize Parts 25 and 101 of the Commission's Rules to Authorize and Facilitate the Deployment of Licensed Point-to-Multipoint Fixed Wireless Broadband Service in the 3.7-4.2 GHz Band (RM-11791); Fixed Wireless Communications Coalition, Inc., Request for Modified Coordination Procedures in Band Shared Between the Fixed Service and the Fixed Satellite Service (RM-11778) Summary: The Commission will consider an Order and Notice of Proposed Rulemaking that would continue the Commission's efforts to make mid-band spectrum in the 3.7-4.2 GHz band available for expanded flexible use, primarily by seeking comment on mechanisms for clearing for mobile use and whether to allow point-to-multipoint use on a shared basis in portions of the band. To inform the Commission's decision-making on the future of the band, it would also collect information about FSS earth stations and space stations to provide a clear understanding of the operations of current users.
2 | WIRELESS TELE-COMMUNICATIONS | Title: Amendment of Parts 1 and 22 of the Commission's Rules with Regard to the Cellular Service, Including Changes in Licensing of Unserved Area (WT Docket No. 12-40); Amendment of the Commission's Rules with Regard to Relocation of Part 24 to Part 27; Interim Restrictions and Procedures for Cellular Service Applications (RM-11510); Amendment of Parts 0, 1, and 22 of the Commission's Rules with Regard to Frequency Coordination for the Cellular Service; Amendment of Part 22 of the Commission's Rules Regarding Certain Administrative and Filing Requirements; Amendment of the Commission's Rules Governing Radiated Power Limits for the Cellular Service (RM-11660); Amendment of Parts 1, 22, 24, 27, 74, 80, 90, 95, and 101 to Establish Uniform License Renewal, Discontinuance of Operation, and Geographic Partitioning and Spectrum Disaggregation Rules and Policies for Certain Wireless Radio Services (WT Docket No. 10-112); 2016 Biennial Review of Telecommunications Regulations (WT Docket No. 16-138) Summary:The Commission will consider a Report and Order eliminating unnecessary rules that apply to cellular service and other licensees.
3 | MEDIA | Title: Children's Television Programming Rules (MB Docket No. 18-202); Modernization of Media Regulation Initiative (MB Docket No. 17-105) Summary: The Commission will consider a Notice of Proposed Rulemaking seeking comment on proposed revisions to the children's television programming rules to provide broadcasters greater flexibility in meeting their children's programming obligations.
4 | PUBLIC SAFETY & HOMELAND SECURITY | Title: Amendment of Part 11 of the Commission's Rules Regarding the Emergency Alert System (PS Docket No. 15-94); Wireless Emergency Alerts (PS Docket No. 15-91) Summary: The Commission will consider a Report and Order and Further Notice of Proposed Rulemaking to improve emergency alerting, including facilitating more effective EAS tests and preventing false alerts.
5 | WIRELINE COMPETITION | Title: Nationwide Number Portability (WC Docket No. 17-244); Numbering Policies for Modern Communications (WC Docket No. 13-97) Summary: The Commission will consider a Report and Order that forbears from legacy requirements and amends rules to facilitate the move toward complete nationwide number portability to promote competition between all service providers and increase network routing efficiencies.
6 | ENFORCEMENT | Title: Amendment of Procedural Rules Governing Formal Complaint Proceedings Delegated to the Enforcement Bureau (EB Docket No. 17-245) Summary: The Commission will consider a Report and Order that consolidates and streamlines the rules governing formal complaint proceedings delegated to the Enforcement Bureau.

* * * * *

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

For a fee this meeting can be viewed live over George Mason University's Capitol Connection. The Capitol Connection also will carry the meeting live via the internet. To purchase these services, call (703) 993-3100 or go to www.capitolconnection.gmu.edu.

Federal Communications Commission.
Marlene Dortch,
Secretary.

[FR Doc. 2018-14861 Filed 7-11-18; 8:45 am]

BILLING CODE 6712-01-P